DEPARTMENT OF THE TREASURY

Office of Foreign Assets Control

Sanctions Actions Pursuant to Executive Order 13448, Executive Order 13310, and Executive Order 13464

AGENCY: Office of Foreign Assets Control, Treasury.

ACTION: Notice.

SUMMARY: The Department of the Treasury's Office of Foreign Assets Control (OFAC) is publishing the name of six entities whose property and interests in property are blocked pursuant to Executive Order (E.O.) 13448 of October 18, 2007, “Blocking Property and Prohibiting Certain Transactions Related to Burma” (E.O. 13448) and the Burmese Sanctions Regulations, 31 CFR part 537 (BSR). OFAC is also removing ten entities whose property and interests in property have been unblocked pursuant to Executive Order 13310 of July 28, 2003, “Blocking Property of the Government of Burma and Prohibiting Certain Transactions” (E.O. 13310) or Executive Order 13464 of April 30, 2008, “Blocking Property and Prohibiting Certain Transactions Related to Burma” (E.O. 13464) and the BSR.

DATES: The actions described in this notice were effective on May 17, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

This document and additional information concerning OFAC are available from OFAC's Web site (www.treasury.gov/ofac). Certain general information pertaining to OFAC's sanctions programs is available via facsimile through a 24-hour fax-on-demand service, tel.: 202/622-0077.

Notice of OFAC Action

On May 17, 2016, OFAC identified six entities in which Steven Law or Asia World Co. Ltd., persons whose property and interests in property are blocked pursuant to E.O. 13448 and the BSR, own a 50 percent or greater interest, and added their names to OFAC's list of Specially Designated Nationals and Blocked Persons (SDN List):

Entities

1. SHWE NAR WAH COMPANY LIMITED, No. 39/40, Bogyoke Aung San Road, Bahosi Housing, Lanmadaw, Rangoon, Burma; Registration ID 1922/2007-2008 (Burma) [BURMA] (Linked to: LAW, Steven).

2. GREEN ASIA SERVICES CO., LTD., No. 61/62, Bahosi Housing, War Tan St., Lanmadaw T/S, Rangoon, Burma; Registration ID 4013/2011-2012 (Burma) [BURMA] (Linked to: ASIA WORLD CO. LTD.)

3. GLOBAL WORLD INSURANCE COMPANY LIMITED, No. 44, Thein Phyu Road, Corner of Bogyoke Aung San Road and Thein Phyu Road, Pazuntaung, Rangoon, Burma; Registration ID 2511/2012-2013 (Burma) [BURMA] (Linked to: ASIA WORLD CO. LTD.)

4. ASIA MEGA LINK CO., LTD., No. 39/40, Bogyoke Aung San Road, Bahosi Housing, Lanmadaw, Rangoon, Burma; Registration ID 1679/2009-2010 (Burma) [BURMA] (Linked to: ASIA WORLD CO. LTD.)

5. ASIA MEGA LINK SERVICES CO., LTD., No. 44/45, Bogyoke Aung San Road, Bahosi Housing Complex, Lanmadaw, Rangoon, Burma; Registration ID 2652/2010-2011 (Burma) [BURMA] (Linked to ASIA WORLD CO. LTD.)

6. PIONEER AERODROME SERVICES CO., LTD., No. 203/204, Thiri Mingalar Housing, Strand Rd, Ahlone, Rangoon, Burma; Registration ID 620/2007-2008 (Burma) [BURMA] (Linked to: ASIA WORLD CO. LTD.)

On May 17, 2016, OFAC, in consultation with the Department of State, determined that circumstances no longer warrant the inclusion of the following entities in the Annex to E.O. 13310, and on OFAC's SDN List, and that these entities are no longer subject to the blocking provisions of Section 1(a) of E.O. 13310:

Entities

1. MYANMA FOREIGN TRADE BANK (a.k.a. MYANMAR FOREIGN TRADE BANK), P.O. Box 203, 80-86 Maha Bandoola Garden Street, Kyauktada T/S, Yangon, Burma; SWIFT/BIC FOTMMMM1 [BURMA]

2. MYANMA INVESTMENT AND COMMERCIAL BANK (a.k.a. MICB; a.k.a. MYANMAR INVESTMENT AND COMMERCIAL BANK), 170/176 Bo Aung Kyaw Street, Botataung Township, Yangon, Burma; SWIFT/BIC MYANMMM1; SWIFT/BIC MICB MM MY; SWIFT/BIC MICB MM MY MAN [BURMA]

3. MYANMA ECONOMIC BANK (a.k.a. MYANMAR ECONOMIC BANK), 1-19 Sule Pagoda Road, Pabedan T/S, Yangon, Burma [BURMA]

On May 17, 2016, OFAC, in consultation with the Department of State, determined that circumstances no longer warrant the blocking of the property and interests in property of, or the prohibiting of transactions with, the following entities in the Annex to E.O. 13464, and on OFAC's SDN List, and that these entities are no longer subject to the blocking provisions of Section 1(a) of E.O. 13464:

Entities

1. MYANMAR TIMBER ENTERPRISE (a.k.a. MTE; a.k.a. MYANMA TIMBER ENTERPRISE), P.O. Box 206, Mission Road/Ahlone Street, Rangoon, Burma [BURMA]

2. MYANMAR GEM ENTERPRISE (a.k.a. MGE; a.k.a. MYANMA GEM ENTERPRISE), 66 Kaba Aye Pagoda Road, Rangoon, Mayangone Township (MYGN), Burma [BURMA]

3. MYANMAR PEARL ENTERPRISE (a.k.a. MPE; a.k.a. MYANMA PEARL ENTERPRISE), No. 4345, Bu Khwe, Naypyitaw, Burma [BURMA]

On May 17, 2016, OFAC, in consultation with the Department of State, determined that circumstances no longer warrant the inclusion of the following entities on the SDN List and that these entities are no longer subject to the blocking provisions of Section 1(b) of E.O. 13464:

Entities

1. CO-OPERATIVE EXPORT-IMPORT ENTERPRISE (a.k.a. CEIE), 259/263 Bogyoke Aung San Street, Yangon, Burma [BURMA]

2. NO. 1 MINING ENTERPRISE, 90 Kanbe Road, Yankin, Rangoon, Burma [BURMA]

3. NO. 2 MINING ENTERPRISE, 90 Kanbe Road, Yankin, Rangoon, Burma [BURMA]

4. NO. 3 MINING ENTERPRISE, 90 Kanbe Road, Yankin, Rangoon, Burma [BURMA]

Dated: May 17, 2016.
John E. Smith,
Acting Director, Office of Foreign Assets Control.

[FR Doc. 2016-12011 Filed 5-20-16; 8:45 am]

BILLING CODE 4810-AL-P